DEPARTMENT OF COMMERCE

National Oceanic and Atmospheric Administration

RIN 0648-XE593

New England Fishery Management Council; Public Meeting

AGENCY: National Marine Fisheries Service (NMFS), National Oceanic and Atmospheric Administration (NOAA), Commerce.

ACTION: Notice; public meeting.

SUMMARY: The New England Fishery Management Council (Council), Atlantic Herring Committee, Atlantic Herring Advisory Panel and Atlantic Herring Plan Development Team is scheduling a public workshop on the Atlantic Herring Acceptable Biological Catch Control Rule Management Strategy Evaluation to consider actions affecting New England fisheries in the exclusive economic zone (EEZ). Recommendations from this group will be brought to the full Council for formal consideration and action, if appropriate.

DATES: This workshop will be held on Monday, May 16, 2016 at 10 a.m. and Tuesday, May 17, 2016 at 9 a.m.

ADDRESSES: The workshop will be held at the Holiday Inn by the Bay, 88 Spring Street, Portland, ME 04101; phone: (207) 775-2311; fax: (207) 772-4017.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Council is currently developing Amendment 8 to the Atlantic Herring Fishery Management Plan. Through Amendment 8, the Council expects to establish a long-term control rule for specifying acceptable biological catch (ABC) for the Atlantic herring fishery. A control rule is a formulaic approach for establishing an annual limit or target fishing level that is based on the best available scientific information.

An objective of Amendment 8 is to develop and implement an ABC control rule that manages Atlantic herring within an ecosystem context and addresses the goals of Amendment 8, which are to: Account for the role of Atlantic herring within the ecosystem, including its role as forage; to stabilize the fishery at a level designed to achieve optimum yield; to address localized depletion in inshore waters.

In January 2016, the Council approved conducting a Management Strategy Evaluation (MSE) to support the development of alternatives regarding the ABC control rule. MSE is a collaborative decision-making process, involving upfront public input and technical analysis than the normal amendment development process. MSE can take many forms, but here, the MSE will be used to help determine how a range of control rules may perform relative to potential objectives. An early step of the MSE is this public workshop to develop recommendations for Council consideration for a range of potential objectives of the Atlantic herring ABC control rule, how these objectives may be tested (i.e., associated performance metrics), and the range of control rules that would undergo testing.

Workshop Goals

The Council is hosting this MSE workshop to develop a common understanding of Management Strategy Evaluation; develop recommendations to the Council for: A range of potential objectives of the Atlantic herring ABC control rule, quantitative metrics to evaluate the performance of control rules relative to the objectives, and a range of control rules to be evaluated and/or the general characteristics of a control rule; develop a common understanding of the potentials and limitations of models that may affect simulation testing, and given those, identify which uncertainties are most important to resolve; provide an opportunity for stakeholders of the Atlantic herring fishery to provide greater input than typically possible at Council meetings, in an environment that supports constructive and open dialogue between users of the resource, scientific experts, fishery managers, and other interested members of the public.

Although non-emergency issues not contained in this agenda may come before this group for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Thomas A. Nies, Executive Director, at (978) 465-0492, at least 5 days prior to the meeting date.

Authority: 16 U.S.C. 1801 et seq.

Dated: April 26, 2016.
Jeffrey N. Lonergan,
Acting Deputy Director, Office of Sustainable Fisheries, National Marine Fisheries Service.

[FR Doc. 2016-10074 Filed 4-28-16; 8:45 am]

BILLING CODE 3510-22-P